DEPARTMENT OF HOMELAND SECURITY

Coast Guard

33 CFR Part 165

[Docket No. USCG-2010-0427]

RIN 1625-AA08 and AA00

Safety Zones; Marine Events Within the Captain of the Port Sector Long Island Sound Area of Responsibility, June Through October

AGENCY: Coast Guard, DHS.

ACTION: Interim rule with request comments.

SUMMARY: The Coast Guard is establishing 29 safety zones for marine events within the Captain of the Port Sector Long Island Sound area of responsibility for regattas, power boat races, and firework displays. This action is necessary to provide for the safety of life on navigable waters during the events. Entry into, transit through, mooring or anchoring within these zones is prohibited unless authorized by the Captain of the Port Sector Long Island Sound.

DATES: This rule is effective July 7, 2010 through 11:59 p.m. on October 3, 2010. This rule is effective with actual notice for purposes of enforcement beginning at 8:30 p.m. on June 25, 2010. Comments and related material must reach the Coast Guard on or before August 23, 2010. Requests for public meetings must be received by the Coast Guard on or before July 28, 2010.

ADDRESSES: You may submit comments identified by docket number USCG-2010-0427 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this interim rule, call or e-mail Petty Officer Joseph Graun, Prevention Department, Coast Guard Sector Long Island Sound, (203) 468-4459, joseph.l.graun@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided.

Submitting Comments

If you submit a comment, please include the docket number for this rulemaking (USCG-2010-0427), indicate the specific section of this document to which each comment applies, and provide a reason for each suggestion or recommendation. You may submit your comments and material online (via http://www.regulations.gov) or by fax, mail or hand delivery, but please use only one of these means. If you submit a comment online via http://www.regulations.gov, it will be considered received by the Coast Guard when you successfully transmit the comment. If you fax, hand delivery, or mail your comment, it will be considered as having been received by the Coast Guard when it is received at the Docket Management Facility. We recommend that you include your name and a mailing address, an e-mail address, or a telephone number in the body of your document so that we can contact you if we have questions regarding your submission.

To submit your comment online, go to http://www.regulations.gov, click on the “submit a comment” box, which will then become highlighted in blue. In the “Document Type” drop down menu select “Rules” and insert “USCG-2010-0427” in the “Keyword” box. Click “Search” then click on the balloon shape in the “Actions” column. If you submit comments by mail or hand delivery, submit them in an unbound format, no larger than 8½ by 11 inches, suitable for copying and electronic filing. If you submit comments by mail and would like to know that they reached the facility, please enclose a stamped, self-addressed postcard or envelope. We will consider all comments and material received during the comment period and may change this rule based on your comments.

Viewing Comments and Documents

To view comments, as well as documents mentioned in this preamble as being available in the docket, go to http://www.regulations.gov, click on the “read comments” box, which will then become highlighted in blue. In the “Keyword” box insert “USCG-2010-0427” and click “Search.” Click the “Open Docket Folder” in the “Actions” column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one on or before July 28, 2010 using one of the four methods specified under ADDRESSES. Please explain why you believe a public meeting would be beneficial. If we determine that one would aid this rulemaking, we will hold one at a time and place announced by a later notice in the Federal Register.

Regulatory Information

The Coast Guard is issuing this interim rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule. It is impractical to issue a NPRM and take public comment before June 25, 2010 when the first marine event necessitating a safety zone is scheduled to occur. Further, it is contrary to public interest to delay the effective date of this rule or to delay or cancel the scheduled events. Delaying the effective date by first publishing a NPRM would be contrary to the rule's objectives of ensuring safety of life on the navigable waters during these scheduled events as immediate action is needed to protect persons and vessels from the hazards associated with vessels participating in regattas, powerboat races, as well as the hazardous nature of fireworks including unexpected detonation and burning debris. We are requesting public comment on the safety zones, and if we receive public input that indicates a need to revise the safety zone regulations or the conditions they impose, or raises any other significant public concerns, we will address those concerns prior to issuing any final rule. For the same reasons, under 5 U.S.C. 553(d)(3), the Coast Guard finds that good cause exists for making this rule effective less than 30 days after publication in the Federal Register.

Basis and Purpose

Marine events are frequently held on the navigable waters within the area of responsibility for COTP Long Island Sound. These events include sailing regattas, swim events, power boat races, row and paddle boat races, parades, and firework displays. Based on the nature of the events, large number of participants and spectators, and the event locations, the Coast Guard has determined that the events listed in this rule could pose a risk to participants or waterway users if normal vessel traffic were to interfere with the event. Possible hazards include risks of participant injury or death resulting from near or actual contact with non-participant vessels traversing through the regulated areas. In order to protect the safety of all waterway users including event participants and spectators, this temporary rule establishes safety zones for the time and location of each event.

This rule prevents vessels from entering, transiting, mooring or anchoring within areas specifically designated as regulated areas during the periods of enforcement unless authorized by the Captain of the Port, or designated on-scene patrol personnel. “Designated on-scene patrol personnel” are any Coast Guard commissioned, warrant, or petty officer who has been designated by the Captain of the Port to act on his behalf. On-scene patrol personnel may be comprised of local, State or Federal officials authorized to act in support of the Coast Guard.

The Coast Guard has ordered safety zones or special local regulations for all of these 25 areas for past events and has not received public comments or concerns regarding the impact to waterway traffic from these annual events.

Discussion of Rule

This temporary rule creates safety zones for all navigable waters within the described area of each event as follows: A 1000 foot zone around all firework displays, a 200 foot zone around all regattas, and a 600 foot zone around all power boat races.

The tables below summarize the regulated area size that applies to each event along with the event name, date, time, and location:

Firework Displays: 1,000 Foot Safety Zone
Shelter Island Fireworks | • Date: July 10, 2010.
| • Rain date: July 11, 2010.
| • Time: 8:30 pm to 10:30 pm.
| • Location: All waters of Gardiner Bay off East Beach, Shelter Island, NY in approximate position 41°04′39.11″ N, 072°22′01.07″ W (NAD 83).
Mason's Island Yacht Club Fireworks | • Date: July 4, 2010
| • Rain date: July 5, 2010.
| • Time: 8:30 pm to 10:30 pm.
| • Location: All waters of Fisher′s Island Sound, Noank, CT in approximate position 41°19′31.00″ N, 071°57′48.00″ W (NAD 83).
Centerport Fire Department Fireworks | • Date: July 4, 2010.
| • Rain date: July 5, 2010.
| • Time: 8:30 pm to 10:30 pm.
| • Location: All waters of Mill Pond, Centerport, NY in approximate position 40°54′18.00″ N, 073°22′40.00″ W (NAD 83).
City of Long Beach Fireworks | • Date: July 9, 2010.
| • Rain date: July 10, 2010.
| • Time: 8:30 pm to 10:30 pm.
| • Location: All waters of the Atlantic Ocean off Riverside Blvd., City of Long Beach, NY in approximate position 40°34′38.77″ N, 073°39′41.32″ W (NAD 83).
Town of Babylon Fireworks | • Date: August 28, 2010.
| • Rain date: August 29, 2010.
| • Time: 8:30 pm to 10:30 pm.
| • Location: All waters off of Cedar Beach Town Park, Babylon, NY in approximate position 40°37′53″ N, 073°20′12″ W (NAD 83).
Village of Quoque Foundering Anniversary Fireworks | • Date: July 4, 2010.
| • Rain date: July 5, 2010.
| • Time: 8:30 pm to 10:30 pm.
| • Location: All waters of Quantuck Bay, Quoque, NY in approximate position 40°48′42.99″ N, 072°37′20.20″ W (NAD 83).
CDM Chamber of Commerce Annual Music Fest Fireworks | • Date: July 4, 2010. • Rain date: July 5, 2010.
| • Time: 8:30 pm to 10:30 pm.
| • Location: All waters off of Cedar Beach Town Park, Mount Sinai, NY in approximate position 40°57′54.02″ N, 073°01′57.52″ W (NAD 83).
Cancer Center for Kids Fireworks | • Date: July 3, 2010.
| • Rain date: July 5, 2010.
| • Time: 8:30 pm to 10:30 pm.
| • Location: All waters off of Bayville, NY in approximate position 40°55′19.38″ N, 073°03′40.41″ W (NAD 83).
Lawrence Beach Club Fireworks | • Date: July 3, 2010.
| • Rain date: July 5, 2010.
| • Time: 8:30 pm to 10:30 pm.
| • Location: All waters of the Atlantic Ocean off Lawrence Beach Club, Atlantic Beach, NY in approximate position 40°34′42.65″ N, 073°42′56.02″ W (NAD 83).
Sag Harbor Fireworks | • Date: July 3, 2010.
| • Rain date: July 4, 2010.
| • Time: 8:30 pm to 10:30 pm.
| • Location: All waters of Sag Harbor Bay off Havens Beach, Sag Harbor, NY in approximate position 41°00′13.03″ N, 072°17′26.07″ W (NAD 83).
Point O′Woods Fire Company Summer Fireworks | • Date: July 2, 2010.
| • Rain date: July 4, 2010.
| • Time: 8:30 pm to 10:30 pm.
| • Location: All waters of the Great South Bay, Point O′Woods, NY in approximate position 40°39′54″ N, 073°07′47.3″ W (NAD 83).
Village of Port Jefferson Fourth of July Celebration Fireworks | • Date: July 4, 2010.
| • Rain date: July 5, 2010.
| • Time: 8:30 pm to 10:30 pm.
| • Location: All waters of Port Jefferson Harbor off East Beach, NY in approximate position 40°57′53.189″ N, 073°03′9.72″ W (NAD 83).
Town of North Hempstead Bar Beach Fireworks | • Date: July 17, 2010.
| • Rain date: July 18, 2010.
| • Time: 8:30 pm to 10:30 pm.
| • Location: All waters of Hempstead Harbor off Bar Beach, North Hempstead, NY in approximate position 40°49′54″ N, 073°39′14″ W (NAD 83).
Port Washington Sons of Italy Fireworks | • Date: August 7, 2010.
| • Rain date: August 8, 2010.
| • Time: 8:30 pm to 10:30 pm.
| • Location: All waters of Hempstead Harbor off Bar Beach, North Hempstead, NY in approximate position 40°49′48.04″ N, 073°39′24.32″ W (NAD 83).
Pyro-FX Entertainment Group Fireworks | • Date: August 7, 2010.
| • Rain date: August 8, 2010.
| • Time: 8:30 pm to 10:30 pm.
| • Location: All waters of the Connecticut River off Chester, CT in approximate position 41°23′18″ N, 072°25′36″ W (NAD 83).
The Creek Fireworks | • Date: September 4, 2010.
| • Rain date: None.
| • Time: 8:30 pm to 10:30 pm.
| • Location: All waters of Long Island Sound off of The Creek Club, Lattingtown, NY in approximate position 40°54′13″ N, 073°35′58″ W (NAD 83).
Town of Islip Labor Day Fireworks | • Date: September 25, 2010.
| • Rain date: September 26, 2010.
| • Time: 8:30 pm to 10:30 pm.
| • Location: All waters of Great South Bay off Bay Shore Marina, Islip, NY in approximate position 40°42′39″ N, 073°14′12″ W (NAD 83).
Great South Bay Music Festival Fireworks | • Date: July 9, 2010.
| • Rain date: July 10, 2010.
| • Time: 8:30 pm to 10:30 pm.
| • Location: All waters of Great South Bay, off Bay Avenue, Patchogue, NY in approximate position 40°44′45″ N, 073°00′25″ W (NAD 83).
Fund in the Sun Fireworks | • Date: July 4, 2010.
| • Rain date: None.
| • Time: 8:30 pm to 10:30 pm.
| • Location: All waters of the Great South bay off The Pines, East Fire Island, NY in approximate position 40°40′07.43″ N, 073°04′13.88″ W (NAD 83).
Independence Day Celebration Fireworks | • Date: July 4, 2010.
| • Rain date: July 5, 2010.
| • Time: 8:30 pm to 10:30 pm.
| • Location: All waters off of Umbrella Beach, Montauk, NY in approximate position 41°01′44″ N, 071°57′13″ W. (NAD 83).
East Hampton Fire Department Fireworks | • Date: September 4, 2010.
| • Rain date: September 5, 2010.
| • Time: 8:30 pm to 10:30 pm.
| • Location: All waters off of East Hampton, NY in approximate position 40°56′40.28″ N, 072°11′21.26″ W (NAD 83).
Village of Island Park Labor Day Celebration Fireworks | • Date: September 25, 2010.
| • Rain date: September 26, 2010.
| • Time: 8:30 pm to 10:30 pm.
| • Location: All waters off of Village of Island Park Fishing Pier, Village Beach, NY in approximate position 40°57′53.189″ N, 073°03′9.72″ W (NAD 83).
Barnum Festival Fireworks | • Date: June 25, 2010.
| • Rain date: None.
| • Time: 8:30 pm to 10:30 pm.
| • Location: All waters of Bridgeport Harbor, Bridgeport, CT. in approximate position 41°9′04″ N, 073°12′49″ W (NAD 83).
Clam Shell Foundation Fireworks | • Date: July 17, 2010.
| • Rain date: July 18, 2010.
| • Time: 9:30 pm to 10:30 pm.
| • Location: All waters of Three Mile Harbor, East Hampton, NY in approximate position 41°1′15.49″ N, 072°11′27.50″ W (NAD 83).
Village of Bellport Centennial | • Date: August 7, 2010.
| • Rain date: August 8, 2010.
| • Time: 9:00 pm to 10:30 pm.
| • Location: All waters of Bellport Bay, off Bellport Dock, Bellport, NY in approximate position 40°45′01.83″ N, 072°55′50.43″ W (NAD 83).
Go 4th on the Bay | • Date: July 4, 2010.
| • Rain date: July 5, 2010.
| • Time: 9:00 pm to 10:30 pm.
| • Location: All waters of the Great South Bay, off Davis Park, Island, NY in approximate position 40°41′04.01″ N, 073°00′23.56″ W (NAD 83).
Regatta Events: 200 Foot Safety Zone
Riverfront Regatta | • Date: October 3, 2010.
| • Rain date: None.
| • Time: 08:30 am to 10:30 pm.
| • Location: Connecticut River, Hartford, CT. None between the Putnum Bridge 41°42.87′ N 072°38.43′ W and the Riverside Boat House 41°46.42′ N 072°39.83′ W.
Power Boat Races: 600 Foot Safety Zone
Riverfront U.S. Title Series Powerboat Race | • Date: September 3, 4, & 5, 2010.
| • Rain date: None.
| • Time: 9:30 pm to 6:30 pm.
| • Location: Bank to bank on the Connecticut River, Hartford, CT from approximate position North 41* 45′53.47″ N/72* 39′55.77″ W to South 41* 45′37.39″ N/72* 39′47.49″ W (NAD 83).
Battle on the Bay Powerboat Race | • Date: August 21-22, 2010.
| • Rain date: None.
| • Time: 6:00 pm to 7:30 pm.
| • Location: Shorefront Park, Great South Bay, Patchogue, NY from approximate position: Beginning at a point off Sand Spit Park, Patchogue, NY at position 40°44′45″ N, 073°00′51″ W, then running south to a point in Great South Bay at position 40°43′46″ N, 073°00′51″ W, then running south east to position 40°43′41″ N, 073°00′20″ W, then running north east to position 40°43′54″ N, 072°58′46″ W, then east to position 40°43′58″ N, 072°57′32″ W, then east to position 40°43′57″ N, 072°56′49″ W, then north to position 40°44′18″ N, 072°56′49″ W, then west to position 40°44′18″ N, 072°57′32″ W, then north west to position 40°44′30″ N, 072°58′32″ W, then north west to position 40°44′33″ N, 072°59′12″ W, then north west to position 40°44′41″ N, 072°59′51″ W, then north west to position 40°44′46″ N, 073°00′04″ W, and then closing the zone at position 40°44′45″ N, 073°00′51″ W (NAD 83).

As large numbers of spectator vessels are expected to congregate around the location of these events, the regulated areas are needed to protect both spectators and participants from the safety hazards created by the event. During the enforcement period of the regulated areas, persons and vessels are prohibited from entering, transiting through, remaining, anchoring or mooring within the zone unless specifically authorized by the COTP or his designated representatives. The Coast Guard may be assisted by other federal, state and local agencies in the enforcement of these regulated areas.

The Coast Guard determined that these regulated areas will not have a significant impact on vessel traffic due to their temporary nature and limited size and the fact that vessels are allowed to transit the navigable waters outside of the regulated areas.

Advanced public notifications will also be made to the local maritime community by the Local Notice to Mariners as well as Broadcast Notice to Mariners.

Regulatory Analyses

We developed this interim rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

The Coast Guard determined that this rule is not a significant regulatory action for the following reasons: The regulated areas will be of limited duration, they cover only a small portion of the navigable waterways, and the events are designed to avoid, to the extent possible, deep draft, fishing, and recreational boating traffic routes. In addition, vessels requiring entry into the area of the regulated areas may be authorized to do so by the Captain of the Port.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: the owners or operators of vessels intending to transit or anchor in the designated regulated area during the enforcement periods stated for each event in the List of Subjects.

The safety zones will not have a significant economic impact on a substantial number of small entities for the following reasons: The regulated areas will be of limited size and of short duration, and vessels that can safely do so may navigate in all other portions of the waterways except for the areas designated as regulated areas. Additionally, before the effective period, the Coast Guard will issue notice of the time and location of each regulated area through a Local Notice to Mariners and Broadcast Notice to Mariners.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34)(g) and (h), of the Instruction. This rule involves establishing safety zones. An environmental analysis checklist and a categorical exclusion determination are available in the docket where indicated under ADDRESSES.

List of Subjects in 33 CFR Part 165

Harbors, Marine safety, Navigation (water), Reporting and recordkeeping requirements, Security measures, and Waterways.

For the reasons discussed in the preamble, the Coast Guard amends 33 CFR Part 165 as follows:

PART 165—REGULATED NAVIGATION AREAS AND LIMITED ACCESS AREAS

1. The authority citation for Part 165 continues to read as follows:

Authority: 33 U.S.C. 1226, 1231; 46 U.S.C. Chapters 701, 3306, 3703; 50 U.S.C. 191, 195; 33 CFR 1.05-1, 6.04-1, 6.04-6, and 160.5; Pub. L. 107-295, 116 Stat. 2064; Department of Homeland Security Delegation No. 0170.1.

2. Add § 165.T01-0505 to read as follows:

§ 165.T01-0505 Safety Zones; Marine Events within the Captain of the Port Sector Long Island Sound Area of Responsibility, June through September.

(a) Safety Zones. The following areas are designated safety zones:

(1) Locations. The locations for each safety zone are provided in the below EVENTS TABLE. For all events listed in the EVENTS TABLE below, the safety zones for firework displays includes all navigable waters within a 1000 foot radius of the fireworks launch site; all navigable waters within a 200 foot radius of all regattas; and for all power boat races, the safety zone includes all navigable waters within a 600 foot radius around the designated race course.

Firework Displays: 1,000 Foot Safety Zone
Shelter Island Fireworks | • Date: July 10, 2010.
| • Rain date: July 11, 2010.
| • Time: 8:30 pm to 10:30 pm.
| • Location: All waters of Gardiner Bay off East Beach, Shelter Island, NY in approximate position 41°04′39.11″ N, 072°22′01.07″ W (NAD 83).
Mason's Island Yacht Club Fireworks | • Date: July 4, 2010.
| • Rain date: July 5, 2010.
| • Time: 8:30 pm to 10:30 pm.
| • Location: All waters of Fisher's Island Sound, Noank, CT in approximate position 41°19′31.00″ N, 071°57′48.00″ W (NAD 83).
Centerport Fire Department Fireworks | • Date: July 4, 2010.
| • Rain date: July 5, 2010.
| • Time: 8:30 pm to 10:30 pm.
| • Location: All waters of Mill Pond, Centerport, NY in approximate position 40°54′18.00″ N, 073°22′ 40.00″ W (NAD 83).
City of Long Beach Fireworks | • Date: July 9, 2010.
| • Rain date: July 10, 2010.
| • Time: 8:30 pm to 10:30 pm.
| • Location: All waters of the Atlantic Ocean off Riverside Blvd., City of Long Beach, NY in approximate position 40°34′38.77″ N, 073°39′41.32″ W (NAD 83).
Town of Babylon Fireworks | • Date: August 28, 2010.
| • Rain date: August 29, 2010.
| • Time: 8:30 pm to 10:30 pm.
| • Location: All waters off of Cedar Beach Town Park, Babylon, NY in approximate position 40°37′53″ N, 073°20′12″ W (NAD 83).
Village of Quoque Foundering Anniversary Fireworks | • Date: July 4, 2010.
| • Rain date: July 5, 2010.
| • Time: 8:30 pm to 10:30 pm.
| • Location: All waters of Quantuck Bay, Quoque, NY in approximate position 40°48′42.99″ N, 072°37′20.20″ W (NAD 83).
CDM Chamber of Commerce Annual Music Fest Fireworks | • Date: July 4, 2010.
| • Rain date: July 5, 2010.
| • Time: 8:30 pm to 10:30 pm.
| • Location: All waters off of Cedar Beach Town Park, Mount Sinai, NY in approximate position 40°57′54.02″ N, 073°01′57.52″ W (NAD 83).
Cancer Center for Kids Fireworks | • Date: July 3, 2010.
| • Rain date: July 5, 2010.
| • Time: 8:30 pm to 10:30 pm.
| • Location: All waters off of Bayville, NY in approximate position 40°55′19.38″ N, 073°03′ 40.41″ W (NAD 83).
Lawrence Beach Club Fireworks | • Date: July 3, 2010.
| • Rain date: July 5, 2010.
| • Time: 8:30 pm to 10:30 pm.
| • Location: All waters of the Atlantic Ocean off Lawrence Beach Club, Atlantic Beach, NY in approximate position 40°34′42.65″ N, 073°42′56.02″ W (NAD 83).
Sag Harbor Fireworks | • Date: July 3, 2010.
| • Rain date: July 4, 2010.
| • Time: 8:30 pm to 10:30 pm.
| • Location: All waters of Sag Harbor Bay off Havens Beach, Sag Harbor, NY in approximate position 41°00′13.03″ N, 072°17′26.07″ W (NAD 83).
Point O'Woods Fire Company Summer Fireworks | • Date: July 2, 2010.
| • Rain date: July 4, 2010.
| • Time: 8:30 pm to 10:30 pm.
| • Location: All waters of the Great South Bay, Point O'Woods, NY in approximate position 40°39′54″ N, 073°07′47.3″ W (NAD 83).
Village of Port Jefferson Fourth of July Celebration Fireworks | • Date: July 4, 2010.
| • Rain date: July 5, 2010.
| • Time: 8:30 pm to 10:30 pm.
| • Location: All waters of Port Jefferson Harbor off East Beach, NY in approximate position 40°57′53.189″ N, 073°03′9.72″ W (NAD 83).
Town of North Hempstead Bar Beach Fireworks | • Date: July 17, 2010.
| • Rain date: July 18, 2010.
| • Time: 8:30 pm to 10:30 pm.
| • Location: All waters of Hempstead Harbor off Bar Beach, North Hempstead, NY in approximate position 40°49′54″ N, 073°39′14″ W (NAD 83).
Port Washington Sons of Italy Fireworks | • Date: August 7, 2010.
| • Rain date: August 8, 2010.
| • Time: 8:30 pm to 10:30 pm.
| • Location: All waters of Hempstead Harbor off Bar Beach, North Hempstead, NY in approximate position 40°49′48.04″ N, 073°39′24.32″ W (NAD 83).
Pyro-FX Entertainment Group Fireworks | • Date: August 7, 2010.
| • Rain date: August 8, 2010.
| • Time: 8:30 pm to 10:30 pm.
| • Location: All waters of the Connecticut River off Chester, CT in approximate position 41°23′18″ N, 072°25′36″ W (NAD 83).
The Creek Fireworks | • Date: September 4, 2010.
| • Rain date:
| • Time: 8:30 pm to 10:30 pm.
| • Location: All waters of Long Island Sound off of The Creek Club, Lattingtown, NY in approximate position 40°54′13″ N, 073°35′58″ W (NAD 83).
Town of Islip Labor Day Fireworks | • Date: September 25, 2010.
| • Rain date: September 26, 2010.
| • Time: 8:30 pm to 10:30 pm.
| • Location: All waters of Great South Bay off Bay Shore Marina, Islip, NY in approximate position 40°42′39″ N, 073°14′12″ W (NAD 83).
Great South Bay Music Festival Fireworks | • Date: July 9, 2010.
| • Rain date: July 10, 2010.
| • Time: 8:30 pm to 10:30 pm.
| • Location: All waters of Great South Bay, off Bay Avenue, Patchogue, NY in approximate position 40°44′45″ N, 073°00′25″ W (NAD 83).
Fund in the Sun Fireworks | • Date: July 4, 2010.
| • Rain date: None.
| • Time: 8:30 pm to 10:30 pm.
| • Location: All waters of the Great South bay off The Pines, East Fire Island, NY in approximate position 40°40′07.43″ N, 073°04′13.88″ W (NAD 83).
Independence Day Celebration Fireworks | • Date: July 4, 2010.
| • Rain date: July 5, 2010.
| • Time: 8:30 pm to 10:30 pm.
| • Location: All waters off of Umbrella Beach, Montauk, NY in approximate position 41°01′44″ N, 071°57′13″ W (NAD 83).
East Hampton Fire Department Fireworks | • Date: September 4, 2010.
| • Rain date: September 5, 2010.
| • Time: 8:30 pm to 10:30 pm.
| • Location: All waters off of East Hampton, NY in approximate position 40°56′ 40.28″ N, 072°11′21.26″ W (NAD 83).
Village of Island Park Labor Day Celebration Fireworks | • Date: September 25, 2010.
| • Rain date: September 26, 2010.
| • Time: 8:30 pm to 10:30 pm.
| • Location: All waters off of Village of Island Park Fishing Pier, Village Beach, NY in approximate position 40°57′53.189″ N, 073°03′9.72″ W (NAD 83).
Barnum Festival Fireworks | • Date: June 25, 2010.
| • Rain date: None.
| • Time: 8:30 pm to 10:30 pm.
| • Location: All waters of Bridgeport Harbor, Bridgeport, CT. in approximate position 41°9′04″ N, 073°12′49″ W (NAD 83).
Clam Shell Foundation Fireworks | • Date: July 17, 2010.
| • Rain date: July 18, 2010.
| • Time: 9:30 pm to 10:30 pm.
| • Location: All waters of Three Mile Harbor, East Hampton, NY in approximate position 41°1′15.49″ N, 072°11′27.50″ W (NAD 83).
Village of Bellport Centennial | • Date: August 7, 2010.
| • Rain date: August 8, 2010.
| • Time: 9:00 pm to 10:30 pm.
| • Location: All waters of Bellport Bay, off Bellport Dock, Bellport, NY in approximate position 40°45′01.83″ N, 072°55′50.43″ W (NAD 83).
Go 4th on the Bay | • Date: July 4, 2010.
| • Rain date: July 5, 2010.
| • Time: 9:00 pm to 10:30 pm.
| • Location: All waters of the Great South Bay, off Davis Park, Island, NY in approximate position 40°41′04.01″ N, 073°00′23.56″ W (NAD 83).
Power Boat Races: 600 Foot Safety Zone
Riverfront US Title Series Powerboat Race | • Date: September 3, 4 & 5, 2010.
| • Rain date: None.
| • Time: 9:30 pm to 6:30 pm.
| • Location: Bank to bank on the Connecticut River, Hartford, CT from approximate position North 41* 45′53.47″ N/72* 39′55.77″ W to South 41* 45′37.39″ N/72* 39′47.49″ W (NAD 83).
Battle on the Bay Powerboat Race | • Date: August 21-22, 2010.
| • Rain date: None.
| • Time: 6:00 pm to 7:30 pm.
| • Location: Shorefront Park, Great South Bay, Patchogue, NY. from approximate position: Beginning at a point off Sand Spit Park, Patchogue, NY at position 40°44′45″ N, 073°00′51″ W, then running south to a point in Great South Bay at position 40°43′46″ N, 073°00′51″ W, then running south east to position 40°43′41″ N, 073°00′20″ W, then running north east to position 40°43′54″ N, 072°58′46″ W, then east to position 40°43′58″ N, 072°57′32″ W, then east to position 40°43′57″ N, 072°56′49″ W, then north to position 40°44′18″ N, 072°56′49″ W, then west to position 40°44′18″ N, 072°57′32″ W, then north west to position 40°44′30″ N, 072°58′32″ W, then north west to position 40°44′33″ N, 072°59′12″ W, then north west to position 40°44′41″ N, 072°59′51″ W, then north west to position 40°44′46″ N, 073°00′04″ W, and then closing the zone at position 40°44′45″ N, 073°00′51″ W (NAD 83).
Regatta Events: 200 Foot Safety Zone
Riverfront Regatta | • Date: October 3, 2010.
| • Rain date: None.
| • Time: 08:30 am to 10:30 pm.
| • Location: Connecticut River, Hartford, CT. None between the Putnum Bridge 41°42.87′ N 072°38.43′ W and the Riverside Boat House 41°46.42′ N 072°39.83′ W.

(b) Notification. Coast Guard Sector Long Island Sound will cause notice of the enforcement of these temporary safety zones to be made by all appropriate means to affect the widest publicity among the effected segments of the public, including publication in the Local Notice to Mariners and Broadcast Notice to Mariners.

(c) Enforcement Period. This section will be enforced for the duration of each event indicated in the table above. If the event is cancelled due to inclement weather, this section is in effect during the rain date indicated in the table above or as indicated in the Local Notice to Mariners. Notification of events held on a rain date will be made by Broadcast Notice to Mariners.

(d) Regulations. (1) The general regulations contained in 33 CFR 165.23 apply. During the enforcement period, entry into, transiting through, remaining, mooring or anchoring within these safety zones is prohibited unless authorized by the Captain of the Port or his designated representatives.

(2) These temporary safety zones are closed to all vessel traffic, except as may be permitted by the Captain of the Port or his designated representatives. Vessel operators given permission to enter or operate in the safety zones must comply with all directions given to them by the Captain of the Port or his designated representatives. Vessels that are granted permission to enter or remain within a safety zone may be required to be at anchor or moored to a waterfront facility such that the vessel's location will not interfere with the progress of the event. At all times when a vessel has been granted permission to enter within a safety zone, it shall endeavor to maintain at least 50 yards distance from any event participant unless otherwise directed.

(3) The “designated representative” is any Coast Guard commissioned, warrant or petty officer who has been designated by the Captain of the Port to act on his behalf. The on-scene representative may be on a Coast Guard vessel, a state or local law enforcement vessel, or other designated craft, or may be on shore and will communicate with vessels via VHF-FM radio or loudhailer. In addition, members of the Coast Guard Auxiliary may be present to inform vessel operators of this regulation.

(4) Vessel operators desiring to enter or operate within the safety zones shall request permission to do so by contacting the Captain of the Port Sector Long Island Sound at 203-468-4404, or via VHF Channel 16.

(5) The Captain of the Port or his designated representative may direct the delay, cancellation, or relocation of the specific area to be regulated within the generally described locations listed in the EVENTS TABLE above to ensure safety and compliance with environmental laws. Such changes in implementation of the safety zones may be required as a result of factors that could affect their associated marine events such as weather, vessel traffic density, spectator activities, participant behavior or potential environmental impacts.

Dated: June 21, 2010.
J.M. Vojvodich,
Captain, U.S. Coast Guard, Captain of the Port Long Island Sound.

[FR Doc. 2010-16373 Filed 7-6-10; 8:45 am]

BILLING CODE 9110-04-P